DEPARTMENT OF JUSTICE

Federal Bureau of Investigation

[Docket No. FBI 150]

FBI Criminal Justice Information Services Division; Revised User Fee Schedule

AGENCY: Federal Bureau of Investigation (FBI), Justice.

ACTION: Notice.

SUMMARY: Pursuant to Title 28, Code of Federal Regulations (CFR), 20.31(e)(3), this notice establishes revised rates for the user fee schedule for authorized users requesting fingerprint-based Criminal History Record Information (CHRI) checks for noncriminal justice purposes.

DATES: Effective Date: This fee is effective March 19, 2012.

FOR FURTHER INFORMATION CONTACT: Christopher L. Enourato, Section Chief, Resources Management Section, Criminal Justice Information Services Division, FBI, 1000 Custer Hollow Road, Module E-3, Clarksburg, WV 26306. Telephone number (304) 625-2910.

SUPPLEMENTARY INFORMATION: Pursuant to the authority in Public Law 101-515 as amended, the FBI has established user fees for authorized agencies requesting noncriminal fingerprint-based CHRI checks at 28 CFR 20.31(e). The FBI will periodically review the process of fingerprint-based CHRI checks to determine the proper fee amounts that should be collected, and the FBI will publish any resulting fee adjustments in the Federal Register.

In accordance with 28 CFR 20.31(e)(2), the fee study employed the same methodology as detailed in the Final Rule (F.R.) establishing the process for setting fees (75 FR 18751, April 13, 2010).

The fee study results recommended several adjustments to the current user fees, which have been in effect since October 1, 2007. The FBI independently reviewed the recommendations, compared them to current fee calculations and plans for future service, and determined that the revised fees were both objectively reasonable and in consonance with the underlying legal authorities. Pursuant to the recommendations of the study, the fees for fingerprint-based CHRI checks will be decreased. Note that there will be no change in the fee for name-based CHRI checks for federal agencies specifically authorized by statute, e.g., pursuant to the Security Clearance Information Act, 5 United States Code (U.S.C.) 9101, as explained at 73 FR 34908.

The following tables detail the fee amounts for authorized users requesting fingerprint-based and name-based CHRI checks for noncriminal justice purposes, including the difference, if any, from the fee schedule previously set out at 75 FR 18887. The schedule also sets out the fee amounts for volunteers, as explained at 75 FR 18752, and Centralized Billing Service Providers (CBSPs), as explained at 75 FR 18753.

Fingerprint-Based CHRI Checks
Service | Fee currently in Effect | Fee currently in effect for CBSPs | Change in fee amount | Revised fee | Revised fee for CBSPs
Electronic Submission | $19.25 | $17.25 | ($2.75) | $16.50 | $14.50
Electronic In/Manual Out Submission | 26.00 | 24.00 | (2.75) | 23.25 | 21.25
Manual Submission | 30.25 | 28.25 | (2.75) | 27.50 | 25.50
Volunteer Submission | 15.25 | 13.25 | (.25) | 15.00 | 13.00

Name-Based CHRI Checks
Service | Fee currently in effect | Change in fee amount | Revised fee
Electronic Submission | $2.25 | 0 | $2.25
Manual Submission | 6.00 | 0 | 6.00

This new fee schedule will become effective March 19, 2012.

Dated: September 30, 2011.
Robert S. Mueller, III,
Director.

[FR Doc. 2011-32544 Filed 12-19-11; 8:45 am]

BILLING CODE 4410-02-P